DEPARTMENT OF ENERGY

Federal Energy Regulatory Commission

[Docket Nos. ER98-3760-000; EC96-19-000 and ER96-1663-000]

California Independent System Operator Corporation and California Independent System Operator Corporation (Not Consolidated); Notice of Filing

June 7, 2000.

Take notice that on May 26, 2000, the California Independent System Operator Corporation (ISO) tendered and Answer in the above-captioned docket. The Answer includes ISO Tariff sheets correcting several errors in the Tariff sheets submitted by the ISO as part of its Compliance Filing made in the above-captioned docket on April 20, 2000.

The ISO states that this filing has been serve upon all parties on the restricted service list compiled by the Secretary in the above-captioned proceedings.

Any person desiring to be heard or to protest such filing should file a motion to intervene or protest with the Federal Energy Regulatory Commission, 888 First Street, NE, Washington, DC 20426, in accordance with Rules 211 and 214 of the Commission's Rules of Practice and Procedures (18 CFR 385.211 and 385.214). All such motions and protests should be files on or before June 16, 2000. Protests will be considered by the Commission to determine the appropriated action to be taken, but will not serve to make protestants parties to the proceedings. Any person wishing to become a party must file a motion to intervene. Copies of this filing are on file with the Commission and are available for public inspection. This filing may also be viewed on the Internet at http://www.ferc.fed.us/online/rims.htm (call 202-208-2222 for assistance.)

David P. Boergers,
Secretary.

[FR Doc. 00-14821 Filed 6-12-00; 8:45 am]

BILLING CODE 6717-01-M